DEPARTMENT OF COMMERCE

National Oceanic and Atmospheric Administration

50 CFR Part 648

[Docket No. 240826-0226; RTID 0648-XD769]

Fisheries of the Northeastern United States; Northeast Multispecies Fishery; 2024-2026 Small-Mesh Multispecies Specifications

AGENCY: National Marine Fisheries Service (NMFS), National Oceanic and Atmospheric Administration (NOAA), Commerce.

ACTION: Final rule.

SUMMARY: NMFS approves and implements final small-mesh multispecies specifications for the 2024 fishing year, and projected specifications for fishing years 2025 and 2026. This action is necessary to establish allowable harvest levels and other management measures consistent with the most recent scientific information. This rule informs the public of these final fishery specifications for the 2024 fishing year.

DATES: Effective September 30, 2024.

ADDRESSES: The New England Fishery Management Council prepared an environmental assessment (EA) for these specifications that describes the action and other considered alternatives. The EA provides: an analysis of the biological, economic, and social impacts of the preferred measures and other considered alternatives; a Regulatory Impact Review; and an economic analysis. Copies of these specifications, including the EA, Regulatory Flexibility Act Analyses, and other supporting documents for the action are available upon request from Dr. Cate O'Keefe, Executive Director, New England Fishery Management Council, 50 Water Street, Newburyport, MA 01950. These documents are also accessible via the internet at: https://www.nefmc.org/library/2024-2026-small-mesh-multispecies-whiting-specifications.

FOR FURTHER INFORMATION CONTACT: Shannah Jaburek, Fishery Policy Analyst, (978) 282-8456.

SUPPLEMENTARY INFORMATION:

Background

The New England Fishery Management Council (Council) manages the small-mesh multispecies fishery within the Northeast Multispecies Fishery Management Plan (FMP). The small-mesh multispecies fishery is made up of three species of hakes that are managed as five stocks: (1) Northern and southern silver hake; (2) northern and southern red hake; and (3) offshore hake. Southern silver hake and offshore hake are often grouped together for management purposes and collectively referred to as “southern whiting.” Amendment 19 to the FMP (April 4, 2013, 78 FR 20260) established a process for specifying catch limits for the small-mesh multispecies fishery stocks, including values for an overfishing limit (OFL), acceptable biological catch (ABC), annual catch limit (ACL), and total allowable landings (TAL). The FMP requires that this specifications process be implemented on an annual basis for up to 3 years at a time with each fishing year running from May 1 through April 30.

This action implements catch limit specifications for the 2024 small-mesh multispecies fishery and announces final specifications for fishing years 2025 and 2026 based primarily on the Council's recommendations. This rule implements the Council's recommended catch limits for northern silver hake, southern whiting, and northern red hake. Pursuant to section 305(d) of the Magnuson-Stevens Fishery Conservation and Management Act (Magnuson-Stevens Act), this rule implements an ABC for southern red hake that is 25 percent lower than the Council's recommendation in order to comply with the requirements established in Framework Adjustment 62 to the Northeast Multispecies FMP (87 FR 3694, January 25, 2022).

Framework 62 established a rebuilding plan for southern red hake that requires the ABC be set to 75 percent of the fishing mortality rate at maximum sustainable yield (FMSY). However, the OFL for red hake has been unknown since the spring of 2020, when a peer review of the management track assessment rejected a new empirical approach that would have updated the reference points for the stock. The peer review further stated that the current index-based method was inappropriate moving forward. Based on this, the Council set the 2021-2023 specifications to reduce the ABC to equal 75 percent of FMSY. At its October 27, 2023, meeting, the Council's Scientific and Statistical Committee (SSC) met to discuss the specifications for small-mesh multispecies stocks. When setting the ABC for southern red hake, the SSC did not reduce the recommended ABC as required by Framework 62. The SSC's rationale for that decision was that, although exploitation is low, the low stock biomass may be a result of reduced stock productivity producing weak year classes and that the recommended ABC is not likely to result in overfishing and will support rebuilding goals for the stock. Based on the SSC's rationale, the Council submitted recommended specifications without the required reduction. This rule implements an ABC that complies with the rebuilding plan for southern red hake. The fishery has not landed more than 76 percent of the proposed total allowable landings; therefore, we do not anticipate that this additional reduction to the ACL would impact the fishery as a whole.

Final Specifications

This action implements the 2024 and provides the projected 2025-2026 small-mesh multispecies catch specifications, based largely on the Council's recommendations, with the southern red hake specifications adjusted as required by the rebuilding plan. The final catch limits increase annual quotas for northern silver hake and decrease the quota for southern whiting and both red hake stocks (table 1). Specifications for fishing years 2025 and 2026 are projected to be the same as the 2024 limits. These specifications are based on the most recent assessment update using the best scientific information available.

Table 1—Small-Mesh Multispecies Specifications for Fishing Years 2024-2026 (in metric tons (mt)), With the Percent Change in the ACL From Fishing Year 2023
| OFL | ABC | ACL | TAL | ACL percent change from 2023
Northern Red Hake | Unknown | 3,129 | 2,973 | 1,274 | −9
Northern Silver Hake | 79,473 | 40,868 | 38,825 | 31,347 | +100
Southern Red Hake | Unknown | ** 1,370 | 1,301 | 234 | −9
Southern Whiting * | 35,419 | 20,149 | 19,142 | 13,881 | −51
* Southern whiting includes both southern silver hake and offshore hake.
** The Council recommended ABC was 1,826 mt, a 21-percent increase from 2023.

The Council did not recommend changes to any other regulations for the small-mesh multispecies fishery. Therefore, all other fishery management measures remain unchanged under the final action. The Council will review the projected 2025 and 2026 specifications to determine if any changes need to be made prior to their final implementation. Changes may occur if quota overages trigger accountability measures, or if new stock information results in changes to the ABC recommendations. We will publish a notice prior to the 2025 fishing year to confirm the specifications or announce any necessary changes.

Comments and Responses

The proposed rule for this action was published in the Federal Register on July 22, 2024 (89 FR 59034), and comments were accepted through August 6, 2024. NMFS received one relevant comment on the proposed rule from the Council. The Council commented in support of the rule with the request that we correct the northern red hake TAL in the rule's preamble to reflect its recommended TAL. The Council also acknowledged our requirement to adjust the southern red hake ABC to meet the requirements of the rebuilding plan, even though it was not the Council's recommended ABC. NMFS has corrected the northern red hake TAL to reflect the Council's recommendation and that change is reflected in both the body of the rule and in the section below. NMFS also acknowledges the Council's justifications for why it did not reduce the ABC for southern red hake and appreciates its understanding in NMFS' obligation to reduce the ABC by 25 percent in order to fulfill the legal requirements outlined under the rebuilding plan in Framework 62.

Changes From the Proposed Rule

There was one change from the proposed rule addressing the TAL for northern red hake. We inadvertently listed the TAL as 213 metric tons (mt) in table 1 instead of 1,274 mt. The correction to implement a 1,274 mt TAL in this final rule is consistent with the Council's recommended TAL.

Classification

Pursuant to section 304(b)(3) of the Magnuson-Stevens Act, the NMFS Assistant Administrator has determined that these final specifications are necessary for the conservation and management of the small-mesh multispecies fishery, and that they are consistent with the Northeast Multispecies FMP, other provisions of the Magnuson-Stevens Act, and other applicable law.

This final rule is exempt from review under Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification and the initial certification remains unchanged. As a result, a final regulatory flexibility analysis is not required and none was prepared.

This final rule does not duplicate, conflict, or overlap with any existing Federal rules.

This action contains no information collection requirements under the Paperwork Reduction Act of 1995.

Dated: August 26, 2024.
Samuel D. Rauch III,
Deputy Assistant Administrator for Regulatory Programs, National Marine Fisheries Service.

[FR Doc. 2024-19435 Filed 8-28-24; 8:45 am]

BILLING CODE 3510-22-P